DEPARTMENT OF COMMERCE

National Oceanic and Atmospheric Administration

50 CFR Part 219

[Docket No. 150413360-5701-03]

RIN 0648-BF02

Taking and Importing Marine Mammals; Taking Marine Mammals Incidental to Northeast Fisheries Science Center Fisheries Research; Correction

AGENCY: National Marine Fisheries Service (NMFS), National Oceanic and Atmospheric Administration (NOAA), Commerce.

ACTION: Proposed rule; correction; extension of public comment period.

SUMMARY: This document contains corrections to the preamble to the proposed rule published on August 6, 2015, that would establish a framework for authorizing the take of marine mammals incidental to the NEFSC's fisheries research activities in the Atlantic coast region for a five-year period, 2015-2020. This action is necessary to correct typographical errors in the annual estimates presented for Level B harassment of northern bottlenose whales (Hyperoodon ampullatus) from 10 to 12. This change accounts for the annual estimate of level B harassment for this species in both inshore (10 individuals) and offshore waters (2 individuals) in the Atlantic coast region.

The Federal Register proposed rule published on July 9, 2015, indicated that written comments were due by August 10, 2015, which allowed 30 calendar days for public input. On August 6, 2015, NMFS published a correction and extended the public comment period to August 17, 2015. NMFS has decided to extend the public comment period by an additional 30 calendar days for public input.

DATES: The comment period for the proposed rule published July 9, 2015, at 80 FR 39542, extended August 6, 2015, at 80 FR 46939, has been further extended. NMFS must receive written comments and information no later than September 16, 2015.

ADDRESSES: You may submit comments on this document, identified by NOAA-NMFS-2015-0078, by any of the following methods:

• Electronic submission: Submit all electronic public comments via the federal e-Rulemaking Portal. Go to www.regulations.gov, enter 0648-BF02 in the “Search” box, click the “Comment Now!” icon, complete the required fields, and enter or attach your comments.

• Mail: Comments should be addressed to Jolie Harrison, Chief, Permits and Conservation Division, Office of Protected Resources, National Marine Fisheries Service, 1315 East West Highway, Silver Spring, MD 20910.

Instructions: NMFS is not responsible for comments sent by any other method, to any other address or individual, or received after the end of the comment period. Attachments to electronic comments will be accepted in Microsoft Word or Excel or Adobe PDF file formats only. To help NMFS process and review comments more efficiently, please use only one method to submit comments. All comments received are a part of the public record. NMFS will generally post the comments on www.regulations.gov without change. All personal identifying information (e.g., name, address) voluntarily submitted by the commenter may be publicly accessible. Do not submit confidential business information or otherwise sensitive or protected information. NMFS will accept anonymous comments (enter N/A in the required fields if you wish to remain anonymous).

FOR FURTHER INFORMATION CONTACT: Jeannine Cody, Office of Protected Resources, NMFS, (301) 427-8401.

SUPPLEMENTARY INFORMATION:

Background

NMFS published a proposed rule on July 9, 2015 (80 FR 39542) to establish a framework for authorizing the take of marine mammals incidental to the NEFSC's fisheries research activities in the Atlantic coast region for a five-year period, 2015-2020. NMFS refers the reader to the July 9, 2015, Federal Register notice (80 FR 39542) for background information concerning the proposed regulations. The information presented in the notice of proposed rulemaking is not repeated here. NMFS also published a correction to the proposed rule on August 6, 2015 (80 FR 46939). This correction revises the description contained in the preamble of the estimates of northern bottlenose whales (Hyperoodon ampullatus) to be taken by Level B harassment from 10 to 12. This correction presents the total annual estimate of level B harassment for this species in both inshore (10) and offshore waters (2) in the Atlantic coast region. The correction does not affect NMFS' preliminary determinations presented in the proposed rule (80 FR 39542, July 9, 2015).

Need for Correction

As published, the preamble to the proposed regulations contains errors or typographical mistakes which need to be clarified. These errors and omissions were also incorrectly recorded within the proposed regulatory text and should be clarified there as well.

1. On page 46941, in Table 20, the entries for northern bottlenose whales are corrected to read as follows:

Table 20—Summary Information Related to Proposed Annual Take Authorization in the Atlantic Coast Region, 2015-2020
Species ¹ | Proposed total annual Level B harassment authorization | Percent of estimated population | Proposed total M/SI + Level A authorization, 2015-2020 | Estimated maximum annual M/SI + Level A ² | PBR ³ | % PBR ⁴ | Stock trend ⁵
* * * * * * *
Northern bottlenose whale | 12 | n/a | 0 | 0 | n/a | — | ?
* * * * * * *
¹ For species with multiple stocks in the Atlantic coast regions or for species groups (Kogia spp. and Mesoplodont beaked whales), indicated level of take could occur to individuals from any stock or species (not including coastal and estuarine stocks of bottlenose dolphins).
² This column represents the total number of incidents of M/SI + Level A that could potentially accrue to the specified species or stock and is the number carried forward for evaluation in the negligible impact analysis (later in this document). To reach this total, we add one to the total for each pinniped or delphinid that may be captured in longline or gillnet gear, one to the total for each delphinid that may be captured in trawl gear, and one pinniped that may be captured in fyke net gear. This represents the potential that the take of an unidentified pinniped or delphinid could accrue to any given stock captured in that gear. The proposed take authorization is formulated as a five-year total; the annual average is used only for purposes of negligible impact analysis. We recognize that portions of an animal may not be taken in a given year.
³ See Table 3 and following discussion for more detail regarding PBR.
⁴ Estimated maximum annual M/SI + Level A expressed as a percentage of PBR.
⁵ See relevant SARs for more information regarding stock status and trends. Interannual increases may not be interpreted as evidence of a trend.
* * * * * * *

2 . On page 46941, in the center column, in the amendatory text for § 219.33, remove “(Z) Northern bottlenose whale (Hyperoodon ampullatus)—10;” and add “(Z) Northern bottlenose whale (Hyperoodon ampullatus)—12;” in its place.

Dated: August 11, 2015.
Eileen Sobeck,
Assistant Administrator for Fisheries, National Marine Fisheries Service.

[FR Doc. 2015-20302 Filed 8-14-15; 8:45 am]

BILLING CODE 3510-22-P